DEPARTMENT OF COMMERCE

National Oceanic and Atmospheric Administration

[RTID 0648-XC612]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day in-person meeting of its Standing, Reef Fish, Socioeconomic, and Ecosystem Scientific and Statistical Committees (SSC).

DATES: The meeting will be held Tuesday, January 10 through Thursday, January 12, 2023. Meeting times are scheduled as follows: Tuesday and Wednesday from 8:30 a.m. to 5:30 p.m., and Thursday, from 8:30 a.m. to 5 p.m., EST.

ADDRESSES: The meeting will take place at the Gulf Council office. Registration information will be available on the Council's website by visiting www.gulfcouncil.org and clicking on the “meeting tab”.

Council address: Gulf of Mexico Fishery Management Council, 4107 W. Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, January 10, 2023; 8:30 a.m.-5:30 p.m., EST

The meeting will begin with Introductions and Adoption of Agenda, Approval of Verbatim Minutes and Meeting Summary from the September 21-23, 2022, meeting, and a review of the Scope of Work. The Committees will select an SSC Representative for the January 30-February 2, 2023, Gulf Council Meeting. Following, the Committees will review presentations and a stock assessment report for SEDAR 75: Gulf of Mexico Gray Snapper, including other background materials for SSC discussion. The Committees will hold a discussion on Acceptable Biological Catch Control Rule Modifications, receive presentations, and review background materials. Public comment will be heard at the end of the day.

Wednesday, January 11, 2023; 8:30 a.m.-5:30 p.m., EST

The Committees will continue review and discuss any topics from the previous day if time is needed. The Committees will review and evaluate updated Red Snapper Calibration Ratios for Gulf state surveys to MRIP, along with presentations and background materials; and will receive public comment at the end of the day, if any.

Thursday, January 12, 2023; 8:30 a.m.-5 p.m., EST

The Committees will review and discuss the presentation and other background materials for Gulf Red Grouper Interim Analysis and Projections. If further discussions on the stock assessment report for SEDAR 75: Gulf of Mexico Gray Snapper are needed, they will be held prior to the Committees receiving public comment before addressing any items under Other Business.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: December 9, 2022.
Diane M. DeJames-Daly,
Acting Deputy Director, Office of Sustainable Fisheries, National Marine Fisheries Service.

[FR Doc. 2022-27114 Filed 12-13-22; 8:45 am]

BILLING CODE 3510-22-P